SMALL BUSINESS ADMINISTRATION

Military Reservist Economic Injury Disaster Loans Interest Rate for Fourth Quarter FY 2018

The Small Business Administration publishes an interest rate for Military Reservist Economic Injury Disaster Loans (13 CFR 123.512) on a quarterly basis. The rate will be 3.675 for loans approved on or after July 27, 2018.

James Rivera,
Associate Administrator for Disaster Assistance.

[FR Doc. 2018-15650 Filed 7-20-18; 8:45 am]

BILLING CODE P